FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012395-002.

Title: MSC/ACL Trans-Atlantic Space Charter Agreement.

Parties: Atlantic Container Line A.B. and MSC Mediterranean Shipping Company S.A.

Filing Party: Wayne R. Rohde, Esq.; Cozen O'Connor; 1200 Nineteenth St. NW.; Washington, DC 200036.

Synopsis: The amendment revises Article 5.1 to clarify that the space to be provided to ACL will be on MSC's SAWC-USA-NWC service. The amendment also reinserts language that was inadvertently deleted by Amendment No. 1 and deletes language that was inadvertently added by Amendment No. 1. It also restates the Agreement.

Agreement No.: 012483.

Title: HLAG/CMA CGM U.S.-Mediterranean Slot Charter Agreement.

Parties: Hapag-Lloyd AG and CMA CGM S.A.

Filing Party: Wayne R. Rohde, Esq.; Cozen O'Connor; 1200 Nineteenth St. NW.; Washington, DC 200036.

Synopsis: The Agreement authorizes HLAG to sell space to CMA CGM on its MGX service in the trade between ports on the U.S. Gulf Coast on the one hand, and ports on the Gulf Coast of Mexico and in Italy, Spain and Jamaica on the other hand.

Agreement No.: 012484.

Title: Port of New York & New Jersey/OCEMA Discussion Agreement.

Parties: Port Authority of New York and New Jersey and the Ocean Carrier Equipment Management Association, Inc., FMC Agreement No. 011284 (OCEMA).

Filing Party: Sam Ruda; Port Authority of NY & NJ; 4 World Trade Center; 150 Greenwich Street—17th Floor; New York, NY 10007.

Synopsis: The Agreement authorizes the Port of New York and New Jersey and OCEMA to collect and exchange information, discuss, and reach agreement upon matters relating to the Cargo Facility Charge levied by the Port Authority of New York and New Jersey.

By Order of the Federal Maritime Commission.
Dated: May 12, 2017.
Rachel E. Dickon,
Assistant Secretary.

[FR Doc. 2017-09987 Filed 5-16-17; 8:45 am]

BILLING CODE 6731-AA-P